ENVIRONMENTAL PROTECTION AGENCY

[FRL-9104-1]

Proposed Settlement Agreement for Recovery of Past Response Costs and Certain Other Costs Under the Comprehensive Environmental Response, Compensation, and Liability Act of 1980, as Amended; In Re: Commerce Street Plume Superfund Site, Located in Williston, VT

AGENCY: Environmental Protection Agency.

ACTION: Notice of proposed settlement; request for public comment.

SUMMARY: In accordance with the Comprehensive Environmental Response, Compensation, and Liability Act, as amended (“CERCLA”), 42 U.S.C. 9601, et seq., notice is hereby given of a proposed administrative settlement for recovery of past response costs and certain other costs in connection with the Commerce Street Plume Superfund Site, in Williston, Vermont. The proposed settlement requires Mitec Telecom, Inc. (“Settling Party”) to reimburse the Environmental Protection Agency (the “Agency”) for past response costs and certain other costs incurred in connection with the Commerce Street Plume Superfund Site in Williston, Vermont. The Settling Party will pay $120,000 plus interest calculated from the effective date of the settlement agreement. Payment will be made in four installments of $30,000 each, plus accrued interest. The proposed settlement includes a covenant not to sue the Settling Party pursuant to section 107(a) of CERCLA, 42 U.S.C. 9607(a) for past response costs and certain other costs identified in the settlement agreement.

For thirty (30) days following the date of publication of this notice, the Agency will receive written comments relating to the proposed settlement. The Agency will consider all comments received and may modify or withdraw its consent to the settlement if comments received disclose facts or considerations which indicate that the settlement is inappropriate, improper, or inadequate. The Agency's response to any comments received will be available for public inspection at 5 Post Office Square, Boston, MA 02109-3912.

DATES: Comments must be submitted on or before February 16, 2010.

ADDRESSES: Comments should be addressed to the Regional Hearing Clerk, U.S. Environmental Protection Agency, Region I, 5 Post Office Square, Suite 100, Mailcode ORA 18-1, Boston, Massachusetts 02109-3912, and should refer to: In re: Commerce Street Plume Superfund Site, U.S. EPA Docket No. CERCLA-01-2008-0062.

FOR FURTHER INFORMATION CONTACT: Gregory Dain, U.S. Environmental Protection Agency, Region I, 5 Post Office Square, Suite 100, Mailcode OES 04-2, Boston, Massachusetts 02109-3912, (617) 918-1884. A copy of the proposed settlement agreement can be obtained from Gregory Dain.

Dated: December 23, 2009.
James T. Owens III,
Director, Office of Site Remediation and Restoration, U.S. EPA, Region I.

[FR Doc. 2010-740 Filed 1-14-10; 8:45 am]

BILLING CODE 6560-50-P